DEPARTMENT OF LABOR

Office of the Secretary

All Items Consumer Price Index for All Urban Consumers;

United States City Average

Pursuant to Section 112 of the 1976 amendments to the Federal Election Campaign Act, 52 U.S.C. 30116(c), the Secretary of Labor has certified to the Chairman of the Federal Election Commission and publishes this notice in the Federal Register that the United States City Average All Items Consumer Price Index for All Urban Consumers (1967=100) increased 397.1 percent from its 1974 annual average of 147.7 to its 2017 annual average of 734.269 and that it increased 38.4 percent from its 2001 annual average of 530.4 to its 2017 annual average of 734.269. Using 1974 as a base (1974=100), I certify that the United States City Average All Items Consumer Price Index for All Urban Consumers thus increased 397.1 percent from its 1974 annual average of 100 to its 2017 annual average of 497.135. Using 2001 as a base (2001=100), I certify that the United States City Average All Items Consumer Price Index for All Urban Consumers increased 38.4 percent from its 2001 annual average of 100 to its 2017 annual average of 138.437. Using 2006 as a base (2006=100), I certify that the CPI increased 21.6 percent from its 2006 annual average of 100 to its 2017 annual average of 121.588.

Signed at Washington, DC, on May 30, 2018.
R. Alexander Acosta,
Secretary of Labor.

[FR Doc. 2018-12484 Filed 6-8-18; 8:45 am]

BILLING CODE 4510-24-P